DEPARTMENT OF TRANSPORTATION

Federal Aviation Administration

14 CFR Part 39

[Docket No. FAA-2004-19988; Directorate Identifier 2004-NM-30-AD; Amendment 39-14111; AD 2005-11-09]

RIN 2120-AA64

Airworthiness Directives; Boeing Model 727-200 Series Airplanes Equipped With a No. 3 Cargo Door

AGENCY: Federal Aviation Administration (FAA), Department of Transportation (DOT).

ACTION: Final rule.

SUMMARY: The FAA is adopting a new airworthiness directive (AD) for certain Boeing Model 727-200 series airplanes equipped with a No. 3 cargo door. This AD requires repetitive detailed and high frequency eddy current inspections for cracking of the forward, lower corner frame and forward end of the lower beam of the No. 3 cargo door, and corrective actions if necessary. The AD provides an optional terminating action for the repetitive inspections. This AD is prompted by reports of cracking at the forward, lower corner frame and lower beam of the No. 3 cargo door. We are issuing this AD to detect and correct cracking of the forward, lower corner frame and forward end of the lower beam of the No. 3 cargo door, which could result in failure of the affected door stops, loss of the cargo door, and consequent rapid decompression of the airplane.

DATES: This AD becomes effective July 12, 2005.

The incorporation by reference of a certain publication listed in the AD is approved by the Director of the Federal Register as of July 12, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19988; the directorate identifier for this docket is 2004-NM-30-AD.

FOR FURTHER INFORMATION CONTACT: Daniel F. Kutz, Aerospace Engineer, Airframe Branch, ANM-120S, FAA, Seattle Aircraft Certification Office, 1601 Lind Avenue, SW., Renton, Washington 98055-4056; telephone (425) 917-6456; fax (425) 917-6590.

SUPPLEMENTARY INFORMATION: The FAA proposed to amend 14 CFR part 39 with an AD for certain Boeing Model 727-200 series airplanes equipped with a No. 3 cargo door. That action, published in the Federal Register on January 5, 2005 (70 FR 729), proposed to require repetitive detailed and high frequency eddy current inspections for cracking of the forward, lower corner frame and forward end of the lower beam of the No. 3 cargo door, and corrective actions if necessary. That action also proposed to provide an optional terminating action for the repetitive inspections.

Comments

We provided the public the opportunity to participate in the development of this AD. We have considered the comments that have been submitted on the proposed AD.

Support for the Proposed AD

One commenter supports the intent of the NPRM and actions of the proposed AD.

Request To Replace Reference to Designated Engineering Representative (DER)

One commenter, the manufacturer, requests that paragraph (k)(2) of the final rule be changed to replace the reference to a Designated Engineering Representative (DER) with references to a Boeing Authorized Representative as a part of the Boeing Delegated Compliance Organization with Delegated Option Authorization.

We agree with this request. Boeing has received a Delegation Option Authorization (DOA). We have revised this final rule to delegate the authority to approve an alternative method of compliance for any repair required by this AD to the Authorized Representative for the Boeing DOA Organization rather than the Designated Engineering Representative (DER).

Conclusion

We have carefully reviewed the available data, including the comments that have been submitted, and determined that air safety and the public interest require adopting the AD with the change described previously. We have determined that this change will neither increase the economic burden on any operator nor increase the scope of the AD.

Costs of Compliance

There are about 390 Model 727-200 series airplanes of the affected design in the worldwide fleet. The following table provides the estimated costs for U.S. operators to comply with this AD.

Estimated Costs
Action | Work hours | Average labor rate per hour | Parts | Cost per airplane | Number of U.S.-registered airplanes | Fleet cost
Detailed and HFEC Inspections, per inspection cycle | 2 | $65 | None | $130 | 274 | $35,620

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-11-09 Boeing: Amendment 39-14111. Docket No. FAA-2004-19988; Directorate Identifier 2004-NM-30-AD.

Effective Date

(a) This AD becomes effective July 12, 2005.

Affected ADs

(b) None.

Applicability

(c) This AD applies to Boeing Model 727-200 series airplanes, equipped with a No. 3 cargo door, as identified in Boeing Special Attention Service Bulletin 727-52-0149, dated October 16, 2003; certificated in any category.

Unsafe Condition

(d) This AD was prompted by reports of cracking at the forward, lower corner frame and lower beam of the No. 3 cargo door. We are issuing this AD to detect and correct cracking of the forward, lower corner frame and forward end of the lower beam of the No. 3 cargo door, which could result in failure of the affected door stops, loss of the cargo door, and consequent rapid decompression of the airplane.

Compliance

(e) You are responsible for having the actions required by this AD performed within the compliance times specified, unless the actions have already been done.

Repetitive Detailed and High Frequency Eddy Current (HFEC) Inspections

(f) Do detailed and HFEC inspections for cracking of the forward, lower corner frame and forward end of the lower beam of the No. 3 cargo door by accomplishing all of the applicable actions specified in the Accomplishment Instructions of Boeing Special Attention Service Bulletin 727-52-0149, dated October 16, 2003. Do the inspections at the times specified in the applicable table in paragraph 1.E., “Compliance,” of the service bulletin, except as required by paragraph (g) of this AD. Repeat the inspections thereafter at intervals not to exceed 4,500 flight cycles. Doing the applicable actions in paragraph (h) or (j) of this AD terminates the repetitive inspections.

(g) Where the service bulletin specified in paragraph (f) of this AD provides a threshold relative to the release date of the service bulletin, this AD requires compliance within the applicable threshold following the effective date of this AD, if the “total airplane flight cycles” or “total replaced door flight cycles” threshold has been exceeded.

Corrective Actions

(h) For airplanes on which cracking is found during any inspection required by paragraph (f) of this AD: Before further flight, do all of the applicable corrective actions specified in the Accomplishment Instructions of Boeing Special Attention Service Bulletin 727-52-0149, dated October 16, 2003. Repairing any affected area terminates the repetitive inspections required by paragraph (f) of this AD.

Parts Installation

(i) Any replacement No. 3 cargo door installed on any airplane after the effective date of this AD must be inspected or modified in accordance with either paragraph (i)(1) or (i)(2) of this AD, as applicable.

(1) If the number of total flight cycles on the door can be positively determined: Do the actions required by paragraphs (f) and (h) of this AD, as applicable, or paragraph (j) of this AD. Do the actions at the times specified in Table 2 of paragraph 1.E., “Compliance,” of Boeing Special Attention Service Bulletin 727-52-0149, dated October 16, 2003.

(2) If the number of total flight cycles on the door cannot be positively determined: Do the actions required by paragraphs (f) and (h) of this AD, as applicable, or paragraph (j) of this AD, before installing the door.

Optional Terminating Action

(j) Concurrently with doing the inspection required by paragraph (f) of this AD, if no cracking is found, doing the preventative modification specified in paragraph 3.B.2. of the Accomplishment Instructions of Boeing Special Attention Service Bulletin 727-52-0149, dated October 16, 2003, terminates the repetitive inspections required by paragraph (f) of this AD.

Alternative Methods of Compliance (AMOCs)

(k)(1) The Manager, Seattle Aircraft Certification Office (ACO), FAA, has the authority to approve AMOCs for this AD, if requested using the procedures found in 14 CFR 39.19.

(2) An AMOC that provides an acceptable level of safety may be used for any repair for cracking required by this AD, if it is approved by an Authorized Representative for the Boeing Delegated Option Authorization Organization who has been authorized by the Manager, Seattle ACO, to make such findings. For a repair method to be approved, the repair must meet the certification basis of the airplane, and the approval must specifically refer to this AD.

Material Incorporated by Reference

(l) You must use Boeing Special Attention Service Bulletin 727-52-0149, dated October 16, 2003, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at NARA, call (202) 741-6030, or go to http://www.archives.gov/federal_register/code_of_federal_regulations/ibr_locations.html.

Issued in Renton, Washington, on May 26, 2005.
Ali Bahrami,
Manager, Transport Airplane Directorate, Aircraft Certification Service.

[FR Doc. 05-11055 Filed 6-6-05; 8:45 am]

BILLING CODE 4910-13-P